DEPARTMENT OF TRANSPORTATION

Federal Transit Administration

Limitation on Claims Against Proposed Public Transportation Projects; Correction

AGENCY: Federal Transit Administration (FTA), DOT.

ACTION: Notice; correction.

SUMMARY: The Federal Transit Administration (FTA) published a notice in the Federal Register on April 22, 2013, concerning a limitation on claims for certain specified public transportation projects. The notice contained an incorrect description of one project.

FOR FURTHER INFORMATION CONTACT: Nancy-Ellen Zusman, Assistant Chief Counsel, Office of Chief Counsel, (312) 353-2577 or Terence Plaskon, Environmental Protection Specialist, Office of Human and Natural Environment, (202) 366-0442. FTA is located at 1200 New Jersey Avenue SE., Washington, DC 20590. Office hours are from 9:00 a.m. to 5:30 p.m., Monday through Friday, except Federal holidays.

Correction

In the Federal Register notice dated April 22, 2013, FR Doc. E6-14314, on page 23817, in the third column, the Crenshaw/LAX Transit Corridor Project was incorrectly described as a heavy rail project; a corrected project description should read:

Project description: The project will extend light rail transit from the existing Metro Exposition Line at Crenshaw and Exposition Boulevards to the Metro Green Line's Aviation/LAX Station. LACMTA proposes three modifications to the project. These modifications resulted from refinements to design and efforts to reduce cost, to respond to community concerns, reduce right-of-way acquisition, and to improve circulation. The proposed modifications and refinements include reconfiguration of a mid-block at-grade pedestrian crossing to an undercrossing at Faithful Central Bible Church; reconfiguration of a below-grade trench to an aerial guideway over La Brea Avenue; and elevation of the planned at-grade Florence/La Brea Station to street level. This notice only applies to the discrete actions taken by FTA at this time, as described below. Nothing in this notice affects FTA's previous decisions, or notice thereof, for this project.

This correction does not alter the statute of limitations (SOL) for modifications to the Crenshaw/LAX Transit Corridor Project previously noticed on April 22, 2013, and described above. The SOL on claims still will expire on September 19, 2013.

Issued On: April 30, 2013.
Lucy Garliauskas,
Associate Administrator for Planning and Environment, Washington, DC.

[FR Doc. 2013-10512 Filed 5-2-13; 8:45 am]

BILLING CODE 4910-57-P